DEPARTMENT OF LABOR

Employment and Training Administration

[TA-W-62,202]

CCC Associates, Eurocast Division, Montgomery, AL; Notice of Termination of Investigation

Pursuant to Section 221 of the Trade Act of 1974, as amended, an investigation was initiated on September 26, 2007 in response to a worker petition filed by a company official on behalf of workers of CCC Associates, Eurocast Division, Montgomery, Alabama.

The petitioner has requested that the petition be withdrawn. Consequently, the investigation has been terminated.

Signed at Washington, DC, this 4th day of October 2007.
Linda G. Poole,
Certifying Officer, Division of Trade Adjustment Assistance.

[FR Doc. E7-20112 Filed 10-11-07; 8:45 am]

BILLING CODE 4510-FN-P